DEPARTMENT OF LABOR

Employment and Training Administration

Agency Information Collection Activities; Comment Request for Information Collection: Guam Military Base Realignment Contractor Recruitment Standards, Extension Without Revisions

AGENCY: Employment and Training Administration (ETA), Labor.

ACTION: Notice.

SUMMARY: The Department of Labor (Department), as part of its continuing effort to reduce paperwork and respondent burden, conducts a preclearance consultation program to provide the general public and federal agencies with an opportunity to comment on proposed and/or continuing collections of information in accordance with the Paperwork Reduction Act of 1995 (PRA 95) [44 U.S.C. 3506(c)(2)(A)]. This program helps to ensure that requested data can be provided in the desired format, reporting burden (time and financial resources) is minimized, collection instruments are clearly understood, and the impact of collection requirements on respondents can be properly assessed. Currently, ETA is soliciting comments concerning the extension of data collection on its Guam Military Base Realignment Contractors Recruitment Standards, which expire April 30, 2012. This information collection follows an emergency review that was conducted in accordance with the PRA 95 and 5 CFR 1320.13. The submission for Office of Management and Budget (OMB) emergency review was approved on October 19, 2011. A copy of the proposed information collection request can be obtained either by: (1) Accessing the RegInfo.gov Web site at http://www.reginfo.gov/public/do/PRAViewDocument?ref_nbr=201108-1205-007, or (2) by contacting the office listed below in the addresses section of this notice.

DATES: Written comments must be submitted to the office listed in the addresses section below on or before March 19, 2012.

ADDRESSES: Submit written comments to Anthony D. Dais, Office of Workforce Investment, Room C-4512, Employment and Training Administration, U.S. Department of Labor, 200 Constitution Avenue NW., Room S-4231, Washington, DC 20210. Telephone (202) 693-2784 (this is not a toll-free number). Individuals with hearing or speech impairments may access the telephone number above via TTY by calling the toll-free Federal Information Relay Service at 1-(877) 889-5627 (TTY/TDD). Fax: (202) 693-3015. Email: dais.anthony@dol.gov.

SUPPLEMENTARY INFORMATION:

I. Background

Section 2834(a) of the National Defense Authorization Act (NDAA) for Fiscal Year 2010 (Pub. L. 111-84, enacted October 28, 2009) amended Section 2824(c) of the Military Construction Authorization Act (Pub. L. 110-417, Division B) by adding a new subsection (6). This provision prohibits contractors engaged in construction projects related to the realignment of U.S. military forces from Okinawa to Guam from hiring non-U.S. workers unless the Governor of Guam (Governor), in consultation with the U.S. Secretary of Labor (Secretary), certifies that (1) there is an insufficient number of U.S. workers that are able, willing, and qualified to perform the work; and (2) that the employment of non-U.S. workers will not have an adverse effect on either the wages or the working conditions of U.S. construction workers in Guam.

In order to allow the Governor to make this certification, the NDAA requires contractors to recruit workers in the United States, including in Guam, the Northern Mariana Islands, American Samoa, the U.S. Virgin Islands, and Puerto Rico, according to the terms of recruitment standards developed and approved by the Secretary. The recruitment standards have been reproduced in full below.

Although the Department has developed the recruitment standards, it has assigned oversight of the contractor recruitment standards and the NDAA-required consultation with the Governor to the Guam Department of Labor (GDOL) through a Memorandum of Understanding between the U.S. Department of Labor and GDOL, effective November 22, 2011.

I. Guam Military Base Realignment Contractors Recruitment Standards

Guam military base realignment contractors must take the following actions to recruit U.S. workers.

1. At least 60 days before the start date of workers under a base realignment contract, contractors must:

(a) Submit a job posting with GDOL at http://dol.guam.gov/index.php?option=com_jobline&Itemid=0&task=add, or by submitting a completed Job Order (Form GES 514) in person at the Guam Employment Service office. The job posting must be posted on the GDOL Job Bank for at least 21 consecutive days;

(b) Submit a job posting with the state workforce agency's Internet job bank in American Samoa at www.usworks.com/americansamoa/, the Commonwealth of the Northern Mariana Islands at https://marianaslabor.net/employer.asp, and in the following states:

i. Alaska (www.jobs.state.ak.us);

ii. California (www.caljobs.ca.gov);

iii. Hawaii (www.hirenethawaii.com);

iv. Oregon (www.emp.state.or.us/jobs); and

v. Washington (https://fortress.wa.gov/esd/worksource/Employment.aspx).

The job posting must be posted for at least 21 consecutive days. If for any reason the Internet job bank in American Samoa is not available, the contractor must place an advertisement on two Sundays in a newspaper that: (1) Is of general circulation in the territory; (2) has a reasonable distribution and is appropriate to the occupation; and (3) is likely to be seen by workers interested in applying for construction employment.

(c) Submit a job posting with an Internet-based job bank that is:

i. National in scope, including the entire United States, Guam, the Commonwealth of the Northern Mariana Islands, American Samoa, the Virgin Islands, and the Commonwealth of Puerto Rico;

ii. Allows job postings for all occupations; and

iii. Is free of charge for job seekers and their intermediaries in One-Stop Career Centers and the employment service delivery system nationwide.

(d) Where the occupation or industry is customarily unionized, contact the local union in Guam in writing to seek U.S. workers who are qualified and who will be available for the job opportunity.

The postings are separate and distinct requirements—i.e., a posting under Section 1(b) cannot be used to satisfy the posting requirement under Section 1(c).

2. Each job posting in (1)(a) through (d) must include, at a minimum, the following:

(a) The contractor's name and appropriate contact information for applicants to inquire about the job opportunity or to send applications and/or résumés directly to the employer;

(b) The geographic area of employment, with enough specificity to apprise applicants of any travel requirements and where applicants will likely have to reside to perform the services or labor;

(c) A statement indicating whether or not the employer will pay for the worker's transportation to Guam;

(d) If applicable, a statement that daily transportation to and from the worksite(s) will be provided by the employer;

(e) A description of the job opportunity with sufficient information to apprise U.S. workers of the services or labor to be performed, including the duties, the minimum education and experience requirements, the work hours and days, and the anticipated start and end dates of the job opportunity;

(f) If applicable, a statement that on-the-job training will be provided to the worker;

(g) If applicable, a statement that overtime will be available to the worker and the wage offer for working any overtime hours;

(h) The wage offer, and the benefits, if any, offered;

(i) A statement that the position is temporary;

(j) The total number of job openings the employer intends to fill; and

(k) If the employer provides the worker with the option of board, lodging, or other facilities, including fringe benefits, or intends to assist workers to secure such lodging, a statement disclosing the provision and cost of the board, lodging, or other facilities, including fringe benefits or assistance to be provided.

3. During the 28-day recruitment period, which begins on the earliest date of posting, contractors must interview all qualified and available Guam and U.S. construction workers who have applied for the employment opportunity.

4. After the close of the recruitment period, and no later than 30 days before the start date of workers under a contract, the contractor must provide a report including the following information via email to GDOL at ndaa.recruitment@dol.guam.gov documenting its efforts to recruit U.S. workers from the United States and all U.S. territories:

(a) A description of all the recruitment approaches used to recruit realignment workers. The description must include identification of the Internet job banks where the postings occurred, the occupation or trade, a description of wages and other terms and conditions of employment, the date of each posting, and the job order or requisition number. If newspaper advertisements were used, the description must also include the dates that these ads appeared in the newspaper;

(b) A copy of each job posting;

(c) A detailed description of how each response to the job postings was handled, including:

i. The number of job applications received;

ii. The name of each applicant;

iii. The position applied for;

iv. The final employment determination for each applicant or job candidate; and

v. For each U.S. job applicant not hired, a description of the specific, lawful, job-related reason for rejecting the applicant for employment, which includes a comparison of the job applicant's skills and experience against the terms listed in the original job posting.

II. USDOL Recruitment Support Activities

Separate from the contractor recruitment standards, ETA will facilitate a nationwide outreach and recruitment effort to maximize hiring of U.S. construction workers, including outreach to its workforce investment system. ETA will do the following:

• Develop and issue a Training and Employment Notice (TEN), and hold an Internet-based training session (“Webinar”) to inform contractors, state workforce agencies, state and local workforce investment boards, and One-Stop Career Centers of the anticipated construction employment opportunities on Guam and how these opportunities will be posted [interested individuals can automatically receive notice of the TEN by going to http://wdr.doleta.gov/directives and clicking on the last bullet, stating “To be added to the ETA Advisory electronic distribution list—click here,” and interested individuals can automatically receive notice of the Webinar by registering for ETA's Workforce3One by going to https://www.workforce3one.org/register.aspx, then going to the fourth category (Newsletters and Updates) and checking the box for “Webinars/Live Events,” and should also check both boxes under “Reemployment Works” in the preceding category (labeled “Join Communities”)];

• Develop telephone scripts for a Toll-Free Help Line directing job seekers to the GDOL job bank;

• Ensure that Departmental offices—including the Office of Unemployment Insurance, the Office of Apprenticeship, the Office of Job Corps, the Veterans' Employment and Training Service, and the YouthBuild program—are informed of the construction employment opportunities; and

• Brief pertinent inter-governmental and labor organizations (including the National Governors Association, National Conference of State Legislatures, and building trades unions) so that they can assist in spreading information about the U.S. worker outreach effort.

II. Review Focus

The Department is particularly interested in comments which

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions: Extension Without Changes

Title: Guam Military Base Realignment Contractors Recruitment Standards.

OMB Number: 1205-0484.

Affected Public: Contractors for Guam construction projects funded through NDAA, plus job applicants for these projects.

Form: Contractor Recruitment Standards.

Total Annual Respondents: 111.

Annual Frequency: Occasional.

Total Annual Responses: 111.

Average Time per Response: 3 hours.

Estimated Total Annual Burden Hours: 333 hours.

Total Annual Burden Cost for Respondents: Zero.

Comments submitted in response to this comment request will be summarized and/or included in the request for OMB approval of the information collection request; they will also become a matter of public record.

Signed in Washington, DC, on this 30th day of December, 2011.
Jane Oates,
Assistant Secretary for Employment and Training.

[FR Doc. 2012-805 Filed 1-17-12; 8:45 am]

BILLING CODE 4510-FN-P